NUCLEAR REGULATORY COMMISSION

[Docket No. 30-36974-ML; ASLBP No. 06-843-01-ML]

Atomic Safety and Licensing Board; Before Administrative Judges: Thomas S. Moore, Chairman, Dr. Paul Abramson, Dr. Anthony J. Baratta; In the Matter of Pa'ina Hawaii, LLC (Material License Application); Notice of Hearing

April 26, 2006.

This proceeding involves the application by Pa'ina Hawaii, LLC, submitted on June 27, 2005, for a possession and use materials license to build and operate a commercial pool-type industrial irradiator using a cobalt-60 source at the Honolulu International Airport.¹ In response to the August 2, 2005, Notice of Opportunity for Hearing published at 70 FR 44,396 (August 2, 2005), the Petitioner, Concerned Citizens of Honolulu, on October 3, 2005, timely filed a request for a hearing. Thereafter, on October 13, 2005, this Atomic Safety and Licensing Board was established by the Commission to preside over the proceeding. See 70 FR 60,858 (October 19, 2005).

¹ See 70 FR 44,396 (Aug. 2, 2005).

On January 24, 2006, the Board issued LBP-06-04, 63 NRC 99 (2006), granting the hearing request of the Petitioner, Concerned Citizens of Honolulu, on the application of Pa'ina Hawaii, LLC. Due to the Petitioner's initial lack of access to sensitive non-public information contained in the Application, the January 24, 2006, memorandum and order, addressed only the Petitioner's standing and its two environmental contentions. Subsequently, on March 24, 2006, the Board addressed the Petitioner's safety related contentions and admitted three additional contentions. See LBP-06-12, 63 NRC___ (March 24, 2006). Parties to the proceeding are Concerned Citizens of Honolulu, Pa'ina Hawaii, LLC, and the NRC Staff. The issues to be considered are the admitted contentions.

Please take notice that a hearing will be conducted in this proceeding. The hearing will be governed by the informal hearing procedures set forth in 10 CFR part 2, subpart L, 10 CFR 2.1200-.1213. Except to the extent an early settlement or other circumstance renders them unnecessary, the Board may conduct an oral argument, may hold pre-hearing conferences, and may conduct an oral hearing. Unless otherwise ordered, the public is invited to attend any argument, pre-hearing conference, or oral hearing. Notices of these sessions will be published in the Federal Register and/or made available to the public at the NRC Public Document Room, located at One White Flint, 11555 Rockville Pike (first floor), Rockville, Maryland, and through the NRC Web site, http://www.nrc.gov.

In addition, pursuant to 10 CFR 2.315(a), any person not a party to the proceeding may submit a written limited appearance. Limited appearance statements, which are placed in the docket of the proceeding, provide members of the public with the opportunity to make the Board and the parties aware of their concerns about the matters at issue in the proceeding. Persons wishing to submit a written limited appearance statement should send it by mail to the Office of the Secretary, U.S. Nuclear Regulatory Commission, Washington, DC 20555-0001, Attention: Rulemakings and Adjudications Staff. A copy of the statement should also be served by mail on the Chairman of this Atomic Safety and Licensing Board, Atomic Safety and Licensing Board Panel, U.S. Nuclear Regulatory Commission, Washington, DC 20555-0001. In its sole discretion and at a later date, the Board may entertain oral limited appearance statements at a suitable location or locations. Notice of any oral limited appearance sessions will be published in the Federal Register and/or made available to the public at the NRC Public Document Room and on the NRC Web site, http://www.nrc.gov.

Documents relating to this proceeding are available for public inspection at the NRC's Public Document Room or electronically from the publicly available records component of NRC's document system (ADAMS). ADAMS is accessible from the NRC Web site at http://www.nrc.gov/reading-rm/adams.html. Persons who do not have access to ADAMS or who encounter problems in accessing the documents located in ADAMS may contact the NRC Public Document Room reference staff by telephone at 1-800-397-4209 or 301-415-4737, or by e-mail to pdr@nrc.gov.

It is so ordered.

Dated: April 26, 2006 at Rockville, Maryland.
For the Atomic Safety and Licensing Board.²
² Copies of this Order were sent this date by Internet e-mail transmission to counsel for the (1) Applicant Pa'ina Hawaii, LLC; (2) Intervenor Concerned Citizens of Honolulu; and (3) NRC Staff.
Thomas S. Moore,
Chairman, Administrative Judge.

[FR Doc. E6-6621 Filed 5-1-06; 8:45 am]

BILLING CODE 7590-01-P